DEPARTMENT OF AGRICULTURE

Commodity Credit Corporation

Information Collection; Rate Quotation for Transportation Services

AGENCY: Commodity Credit Corporation (CCC), USDA.

ACTION: Notice; request for comments.

SUMMARY: In accordance with the Paperwork Reduction Act of 1995 (PRA), the Commodity Credit Corporation is seeking comments from all interested individuals and organizations on the extension with revision of a currently approved information collection associated with Rate Quotation for Transportation Services. The CCC is collecting freight rate quotes from the participating Motor Carriers and Intermodal Marketing Companies who transport agricultural products for the Department of Agriculture and using the collected freight rate quotes to establish the lowest cost of movement to meet the transportation needs of CCC.

DATES: Comments on this notice must be received on or before October 10, 2006.

ADDRESSES: Comments concerning this notice should be addressed to Khristy Baughman, Chief, Planning and Analysis Division, Kansas City Commodity Office, 6501 Beacon Drive, Kansas City, Missouri 64133-4676. Comments also may be submitted by fax to: (816) 926-1648; or by e-mail to: Khristy.baughman@kcc.usda.gov. Comments should also be sent to the Desk Officer for Agriculture, Office of Information and Regulatory Affairs, Office of Management and Budget, Washington, DC 20503.

FOR FURTHER INFORMATION CONTACT: Khristy Baughman, Chief of Planning and Analysis Division, (816) 926-6509, or by e-mail to: Khristy.baughman@kcc.usda.gov.

SUPPLEMENTARY INFORMATION: Title: Rate Quotation for Transportation Services.

OMB Control Number: 0560-0235.

Type of Request: Revision and extension of a currently approved collection.

Abstract: Motor Carriers provide over the road trucking, and Intermodal Marketing Companies (IMCs) provide rail trailer-on-flatcar/container-on-flatcar (TOFC/COFC) service that CCC at the Kansas City Commodity Office (KCCO) hires to meet program transportation needs for the agricultural commodities. Motor Carriers and IMCs are required to complete and submit the KC-5, Rate Quotation for Transportation Services form. The CCC is collecting freight rate quotes to establish the lowest cost of movement to meet transportation needs of U.S. Department of Agriculture. CCC must ensure that Motor Carriers and IMCs providing the transportation service have both the willingness and the capacity to meet these needs.

Estimate of Annual Burden: Public reporting burden for collecting information under this notice is estimated to average 15 minutes per response, including the time for reviewing instructions, searching existing data sources, gathering and maintaining the data needed, and completing and reviewing the collection of information.

Type of Respondents: Motor Carriers and Intermodal Marketing companies.

Estimated Number of Respondents: 164.

Estimated Number of Annual Responses per Respondent: 41.

Estimated Total Annual Burden on Respondents: 1,681 hours.

Comments are invited on: (a) Whether the collection of information is necessary for the proper performance of the functions of the agency, including whether the information will have practical utility; (b) the accuracy of the agency's estimate of burden including the validity of the methodology and assumptions used; (c) ways to enhance the quality, utility and clarity of the information collected; or (d) ways to minimize the burden of the collection of the information on those who are to respond, including through the use of appropriate automated, electronic, mechanical, or other technological collection techniques or other forms of information technology.

All comments received response to this notice, including names and addresses when provided, will be summarized and included in the request for OMB approval. All comments will also become a matter of public record.

Signed at Washington, DC, on August 3, 2006.
Teresa C. Lasseter,
Executive Vice President, Commodity Credit Corporation.

[FR Doc. E6-12958 Filed 8-8-06; 8:45 am]

BILLING CODE 3410-05-P